ENVIRONMENTAL PROTECTION AGENCY

[EPA-HQ-OPP-2007-0612; FRL-8141-9]

Pesticide Program Dialogue Committee; Request for Nominations

AGENCY: Environmental Protection Agency (EPA).

ACTION: Notice.

SUMMARY: EPA's Office of Pesticide Programs is inviting nominations of qualified candidates to be considered for appointment to the Pesticide Program Dialogue Committee (PPDC). EPA's current Charter for the PPDC will expire in November 2007. EPA intends to seek renewal of the PPDC Charter for another 2-year term, November 2007 to November 2009, in accordance with the Federal Advisory Committee Act.

DATES: Nominations must be e-mailed or postmarked no later than August 17, 2007.

ADDRESSES: Nominations should be e-mailed or submitted in writing to Margie Fehrenbach at the address listed under FOR FURTHER INFORMATION CONTACT.

FOR FURTHER INFORMATION CONTACT: Margie Fehrenbach, Office of Pesticide Programs (7501P), Environmental Protection Agency, 1200 Pennsylvania Ave., NW., Washington, DC 20460-0001; telephone number: (703) 308-4775; fax number: (703) 308-4776; e-mail address: fehrenbach.margie@epa.gov.

SUPPLEMENTARY INFORMATION:

I. General Information

A. Does this Action Apply to Me?

This action is directed to the public in general, and may be of interest to a wide range of stakeholders, and especially to persons who work in agricultural settings or urban settings and who are concerned about implementation of the Federal Insecticide, Fungicide, and Rodenticide Act (FIFRA); the Federal Food, Drug, and Cosmetic Act (FFDCA); and the amendments to both of these major pesticide laws by the Food Quality Protection Act (FQPA) of 1996. Potentially interested entities may include but are not limited to: Environmental, consumer and farmworker groups; agricultural workers and farmers; pesticide industry and trade associations; pesticide users and growers, pest consultants, public health organizations; food processors; State, local and Tribal governments; academia; and the public. Since others also may be interested, the Agency has not attempted to describe all the specific entities that may be affected by this action. If you have any questions regarding the applicability of this action to a particular entity, consult the persons listed under FOR FURTHER INFORMATION CONTACT.

B. How Can I Get Copies of this Document and Other Related Information?

1. Docket. EPA has established a docket for this action under docket identification (ID) number EPA-HQ-OPP-2007-0612. Publicly accessible docket materials are available either in the electronic docket at http://www.regulations.gov, or, available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. Background

The Office of Pesticide Programs is entrusted with the responsibility to help ensure the safety of the American food supply, protection and education of those who apply or are exposed to pesticides occupationally or through use of products, and the general protection of the environment and special ecosystems from potential risks posed by pesticides.

PPDC was established under the Federal Advisory Committee Act (FACA), Public Law 92-463, in September 1995 for a 2-year term and has been renewed every 2 years since that time. PPDC provides advice and recommendations to OPP on a broad range of pesticide regulatory, policy, and program implementation issues that are associated with evaluating and reducing risks from use of pesticides.

EPA is seeking to renew the current PPDC Charter, which expires in November 2007, for another 2-year term. EPA intends to appoint members to 2-year terms. An important consideration in EPA's selection of members will be to maintain balance and diversity of experience and expertise. EPA also intends to seek broad geographic representation from the following sectors: Pesticide industry and trade associations; environmental/public interest and consumer groups; farm worker organizations; pesticide user, grower, and commodity groups; Federal/State/local and Tribal governments; academia; and public health organizations; individuals who work on urban pest management issues; and the general public.

Copies of the PPDC charter are filed with appropriate committees of Congress, the Library of Congress, and are available upon request.

List of Subjects

Environmental protection, Pesticides and pests.

Dated: July 13, 2007.
Debra Edwards,
Director, Office of Pesticide Programs.

[FR Doc. E7-14332 Filed 7-24-07; 8:45 am]

BILLING CODE 6560-50-S